DEPARTMENT OF HOMELAND SECURITY

Coast Guard

33 CFR Part 117

[USCG-2008-0241]

Drawbridge Operation Regulation; Cape Fear River, Wilmington, NC; Bridge Inspection

AGENCY: Coast Guard, DHS.

ACTION: Notice of temporary deviation from regulations.

SUMMARY: The Commander, Fifth Coast Guard District, has issued a temporary deviation from the regulation governing the operation of the Cape Fear River Memorial Bridge, mile 26.8 at Wilmington, NC. Under this deviation, a one-hour advance notice is required for bridge openings, to allow bridge inspectors time to remove test equipment connected to operating components used in bridge openings.

DATES: This deviation is effective from 6 a.m. on April 28, 2008, to 11:59 p.m. on May 8, 2008.

ADDRESSES: Documents indicated in this preamble as being available in the docket are part of docket USCG-2008-0241 and are available online at www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the Commander (dpb), Fifth Coast Guard District, Federal Building, 1st Floor, 431 Crawford Street, Portsmouth, VA 23704-5004 between 8 a.m. and 4 p.m., Monday through Friday, except Federal holidays.

FOR FURTHER INFORMATION CONTACT: Gary S. Heyer, Bridge Management Specialist, Fifth Coast Guard District, at (757) 398-6629.

SUPPLEMENTARY INFORMATION: North Carolina Department of Transportation, who owns and operates the Cape Fear River Memorial Bridge, requested a deviation from the operating regulations to facilitate inspection of the bridge.

In the closed position to navigation, the drawbridge has a vertical clearance of 65 feet above mean high water. The current operating regulations set out in 33 CFR 117.823 allow the draw need not open for the passage of vessel from 8 a.m. to 10 a.m. on the second Saturday of July of every year, and from 7 a.m. to 11 a.m. on the second Sunday of November of every year; and require the draw to open on signal at all other times in accordance with 33 CFR 117.5.

The Cape Fear River Memorial Bridge is inspected annually on varying dates. During this inspection, vessel operators with mast height lower than 65 feet will continue to be able to transit through the drawbridge. There are not alternate routes for vessels with a mast height greater than 65 feet.

To allow bridge inspectors time to remove test equipment connected to operating components used in bridge openings, a one-hour advance notice will be required for bridge openings beginning at 6 a.m. on Monday, April 28, 2008, until and including 11:59 p.m. on Thursday, May 8, 2008.

The Coast Guard reviewed the bridge logs provided by NCDOT for April and May in 2007 which revealed that vessel traffic is primarily commercial with a small amount of recreational. The number of bridge openings for commercial traffic averages about 25 openings per month, with about two openings per month for recreational craft.

The Coast Guard will inform the users of the waterway via maritime advisories of the restriction for bridge openings so that vessels can arrange their transits to minimize any impact caused by the temporary deviation. In addition, qualified personnel will be on-site to open the drawbridge for vessels in the event of an emergency.

In accordance with 33 CFR 117.35(e), the drawbridge must return to its regular operating schedule immediately at the end of the designated time period. This deviation from the operating regulations is authorized under 33 CFR 117.35.

We analyzed this temporary deviation under Commandant Instruction M16475.lD and Department of Homeland Security Management Directive 5100.1, which guide the Coast Guard in complying with the National Environmental Policy Act of 1969 (NEPA) (42 U.S.C. 4321-4370f). The environmental impact that this temporary deviation will have is minimal because the drawbridges being closed to vessels to perform routine maintenance, will not result in a change in functional use, or an impact on a historically significant element or setting.

Dated: April 7, 2008.
Waverly W. Gregory, Jr.,
Chief, Bridge Administration Branch Fifth Coast Guard District.

[FR Doc. E8-7931 Filed 4-14-08; 8:45 am]

BILLING CODE 4910-15-P